DEPARTMENT OF JUSTICE

[AAG/A Order No. 231-2001]

Privacy Act of 1974; System of Records

Pursuant to the provisions of the Privacy Act of 1974, 5 U.S.C. 552a, notice is given that the Department of Justice proposes to establish a new Departmentwide system of records entitled, “Freedom of Information Act, Privacy Act, and Mandatory Declassification Review Requests and Administrative Appeals, and those systems remain in existence. This notice of a new system of records merely consolidates the Privacy Act notices already published by components for those existing systems, and it also provides notice for components that have not yet published a notice for such records. Accordingly, this Departmentwide system notice replaces, and the Department hereby removes, the following notices previously published by individual Department of Justice components:

Antitrust Division, “Freedom of Information/Privacy Requester/Subject Index File,” JUSTICE/ATR-008 (60 FR 52,693, Oct. 10, 1995)

Bureau of Prisons, “Freedom of Information Act Record System,” JUSTICE/BOP-002 (42 FR 53,291, Sept. 30, 1977)

Civil Division, “Freedom of Information/Privacy Acts File,” JUSTICE/CIV-005 (53 FR 40,505, Oct. 17, 1988)

Civil Rights Division, “Freedom of Information: Privacy Acts Records,” JUSTICE/CRT-010 (53 FR 40,515, Oct. 17, 1988)

Criminal Division, “Freedom of Information/Privacy Act Records,” JUSTICE/CRM-024 (52 FR 47,201, Dec. 11, 1987)

Drug Enforcement Administration, “Freedom of Information/Privacy Act Records,” JUSTICE/DEA-006 (52 FR 47,209, Dec. 11, 1987)

Executive Office for United States Attorneys, “Freedom of Information Act/Privacy Act Files,” JUSTICE/USA-008 (54 FR 42,091, Oct. 13, 1989)

Immigration and Naturalization Service, “Freedom of Information Act/Privacy Act (FOIA/PA) Case Tracking and Reporting System,” JUSTICE/INS-010 (60 FR 52,698, Oct. 10, 1995)

Justice Management Division, “Freedom of Information-Privacy Act (FOIA-PA) Records System,” JUSTICE/JMD-019 (52 FR 47,272, Dec. 11, 1987); “Freedom of Information Act/Privacy Act (FOIA/PA) Request Letters,” JUSTICE/JMD-020 (52 FR 47,274, Dec. 11, 1987)

Land and Natural Resources Division, “Freedom of Information Act and Privacy Act Records System,” JUSTICE/LDN-005 (48 FR 5363, Feb. 4, 1983)

Office of the Inspector General, “Office of the Inspector General, Freedom of Information/Privacy Acts (FOI/PA) Records,” JUSTICE/OIG-003 (56 FR 50,947, Oct. 9, 1991)

Office of Legal Counsel, “Office of Legal Counsel Freedom of Information Act and Privacy Act Files,” JUSTICE/OLC-003 (59 FR 9497, Feb. 28, 1994)

Office of Legal Policy, “Freedom of Information and Privacy Appeals Index,” JUSTICE/OPA-001 (50 FR 42,615, Oct. 21, 1985); “Declassification Review System,” JUSTICE/OLP-004 (51 FR 4825, Feb. 7, 1986)

Office of the Pardon Attorney, “Freedom of Information/Privacy Acts (FOI/PA) Request File,” JUSTICE/OPA-003 (58 FR 6982, Feb. 3, 1993)

Office of Professional Responsibility, “Freedom of Informationt/Privacy Act (FOI/PA) Records,” JUSTICE/OPR-002 (63 FR 68,300, Dec. 10, 1998)

Office of Special Counsel for Immigration Related Unfair Employment Practices, “Freedom of Information; Privacy Acts Records,” JUSTICE/OSC-004 (53 FR 35,927, Sept. 15, 1988)

Tax Division, “Freedom of Information—Privacy Act Request Files,” JUSTICE/TAX-004 (48 FR 5377, Feb. 4, 1983)

United States Marshals Service, “U.S. Marshals Service Freedom of Information/Privacy Act (FOIA/PA) Files,” JUSTICE/USM-012 (64 FR 60,844, Nov. 8, 1999)

United States Parole Commission, “Freedom of Information Act Record System,” JUSTICE/PRC-002 (52 FR 47,282, Dec. 11, 1987)

In addition, this system includes certain records identified as, “62. Administrative Inquiries,” where such records concern requests for mandatory declassification review, and those records identified as, “190. Freedom of Information/Privacy Acts” in the Federal Bureau of Investigation's system entitled, “The FBI Central Records System,” JUSTICE/FBI-002 (63 FR 8671, 8676, Feb. 20, 1998).

In accordance with 5 U.S.C. 552a(e)(4) and (11), the public is given a 30-day period in which to comment; and the Office of Management and Budget (OMB), which has oversight responsibility under the Privacy Act, requires a 40-day period in which to conclude its review of the system. Therefore, please submit any comments by [30 days after publication in the Federal Register]. The public, OMB, and the Congress are invited to submit any comments to Mary E. Cahill, Management and Planning Staff, Justice Management Division, United States Department of Justice, Washington, DC, 20530-0001 (Room 1400, National Place Building).

In accordance with 5 U.S.C. 552a(r), the Department has provided a report to OMB and the Congress.

Dated: May 15, 2001.
Janis A. Sposato,
Acting Assistant Attorney General for Administration.

Department of Justice-004

SYSTEM NAME:

Freedom of Information Act, Privacy Act, and Mandatory Declassification Review Requests and Administrative Appeals for the Department of Justice.

SYSTEM LOCATION:

United States Department of Justice, 950 Pennsylvania Ave., NW., Washington, DC 20530-0001, and other Department of Justice offices throughout the country.

CATEGORIES OF INDIVIDUALS COVERED BY THE SYSTEM:

The system encompasses all individuals who submit Freedom of Information Act (FOIA), Privacy Act, and Mandatory Declassification Review Requests and administrative appeals to the Department of Justice; individuals whose requests and/or records have been referred to the Department of Justice by other agencies; and in some instances includes attorneys representing individuals submitting such requests and appeals, individuals who are the subjects of such requests and appeals, and/or the Department of Justice personnel assigned to handle such requests and appeals.

CATEGORIES OF RECORDS IN THE SYSTEM:

The system consists of records created or compiled in response to FOIA, Privacy Act, and Mandatory Declassification Review requests and administrative appeals and includes: The original requests and administrative appeals; responses to such requests and administrative appeals; all related memoranda, correspondence, notes, and other related or supporting documentation; and, in some instances, copies of requested records and records under administrative appeal.

AUTHORITY FOR MAINTENANCE OF THE SYSTEM:

The system was established and is maintained pursuant to 5 U.S.C. 301 and 44 U.S.C. 3101 to implement the provisions of 5 U.S.C. 552 and 5 U.S.C. 552a, and the applicable executive order(s) governing classified national security information.

PURPOSE(S):

This system is maintained for the purpose of processing access requests and administrative appeals under the FOIA, access and amendment requests and administrative appeals under the Privacy Act, and requests and administrative appeals for mandatory declassification review under the applicable executive order(s) governing classified national security information; for the purpose of participating in litigation regarding agency action on such requests and appeals; and for the purpose of assisting the Department of Justice in carrying out any other responsibilities under the FOIA, the Privacy Act, and applicable executive orders.

ROUTINE USES OF RECORDS MAINTAINED IN THE SYSTEM, INCLUDING CATEGORIES OF USERS AND THE PURPOSES OF SUCH USES:

Information may be disclosed from this system as follows:

A. To a federal, state, local, or foreign agency or entity for the purpose of consulting with that agency or entity to enable the Department of Justice to make a determination as to the propriety of access to or correction of information, or for the purpose of verifying the identity of an individual or the accuracy of information submitted by an individual who has requested access to or amendment of information.

B. To a federal agency or entity that furnished the record or information for the purpose of permitting that agency or entity to make a decision as to access to or correction of the record or information, or to a federal agency or entity for purposes of providing guidance or advice regarding the handling of particular requests.

C. To a submitter or subject of a record or information in order to obtain assistance to the Department in making a determination as to access or amendment.

D. To contractors, grantees, experts, consultants, students, and others performing or working on a contract, service, grant, cooperative agreement, or other assignment for the federal government, when necessary to accomplish an agency function related to this system of records.

E. To a Member of Congress or staff acting upon the Member's behalf when the Member or staff requests the information on behalf of, and at the request of, the individual who is the subject of the record.

F. In the event that a record in this system, either alone or in conjunction with other information, indicates a violation or potential violation of law—criminal, civil, or regulatory in nature—the relevant records may be referred to the appropriate federal, state, local, foreign, or tribal law enforcement authority or other appropriate agency charged with the responsibility for investigating or prosecuting such violation or charged with enforcing or implementing such law.

G. To officials and employees of a federal agency or entity which requires information relevant to a decision concerning the hiring, appointment, or retention of an employee; the issuance of a security clearance; the execution of a security or suitability investigation; the classification of a job; or the issuance of a grant or benefit.

H. To federal, state, and local licensing agencies or associations which require information concerning the suitability or eligibility of an individual for a license or permit.

I. In a proceeding before a court or adjudicative body before which the Department of Justice is authorized to appear when (a) the Department of Justice, or any subdivision thereof, or (b) any employee of the Department of Justice in his or her official capacity, or (c) any employee of the Department of Justice in his or her individual capacity where the Department of Justice has agreed to represent the employee, or (d) the United States, where the Department of Justice determines that the litigation is likely to affect it or any of its subdivisions, is a party to litigation or has an interest in litigation and such records are determined by the Department of Justice to be arguably relevant to the litigation.

J. To the news media and the public pursuant to 28 CFR 50.2 unless it is determined that release of the specific information in the context of a particular case would constitute an unwarranted invasion of personal privacy.

K. To the General Services Administration and National Archives and Records Administration in records management inspections conducted under the authority of 44 U.S.C. 2904 and 2906.

L. To a former employee of the Department of Justice for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

M. To such recipients and under such circumstances and procedures as are mandated by federal statute or treaty.

POLICIES AND PRACTICES FOR STORING, RETRIEVING, ACCESSING, RETAINING, AND DISPOSING OF RECORDS IN THE SYSTEM:

STORAGE:

Records in this system are stored on paper and/or in electronic form. Records that contain national security information and are classified are stored in accordance with applicable executive orders, statutes, and agency implementing regulations.

RETRIEVABILITY:

Records are retrieved by the name of the requester or appellant; the number assigned to the request or appeal; and in some instances may be retrieved by the name of the attorney representing the requester or appellant, the name of an individual who is the subject of such a request or appeal, and/or the name or other identifier of Department of Justice personnel assigned to handle such requests or appeals. Immigration and Naturalization Service records are also retrieved by alien number and social security number.

SAFEGUARDS:

Information in this system is safeguarded in accordance with applicable laws, rules, and policies, including the Department's automated systems security and access policies. Classified information is appropriately stored in safes and in accordance with other applicable requirements. In general, records and technical equipment are maintained in buildings with restricted access. The required use of password protection identification features and other system protection methods also restrict access. Access is limited to those officers and employees of the agency who have an official need for access in order to perform their duties.

RETENTION AND DISPOSAL:

Records are retained and disposed of in accordance with the National Archives and Records Administration's General Records Schedule 14.

SYSTEM MANAGER(S) AND ADDRESS:

Associate Director, Office of Information and Privacy, United States Department of Justice, 950 Pennsylvania Avenue, NW., Washington, DC 20530-0001.

NOTIFICATION PROCEDURES:

Records concerning initial requests under the FOIA, the Privacy Act, and the applicable executive order(s) governing classified national security information are maintained by the individual Department of Justice component to which the initial request was addressed or directed. Inquiries regarding these records should be addressed to the particular Department of Justice component maintaining the records, United States Department of Justice, 950 Pennsylvania Avenue, NW., Washington, DC 20530-0001.

Records concerning administrative appeals under the FOIA, the Privacy Act, and the applicable executive order(s) governing classified national security information, with the exception of those made to the United States Parole Commission, are maintained by the Office of Information and Privacy. Inquiries regarding these records should be addressed to the Office of Information and Privacy, United States Department of Justice, 950 Pennsylvania Avenue, NW., Washington, DC 20530-0001. Inquiries regarding administrative appeals made to the United States Parole Commission should be addressed to the United States Parole Commission, United States Department of Justice, 950 Pennsylvania Avenue, NW., Washington, DC 20530-0001.

RECORD ACCESS PROCEDURES:

Requests for access may be made by appearing in person or by writing to the appropriate office indicated in the “Notification Procedures” section, above. The envelope and letter should be clearly marked “Privacy Act Request.” The request should include a general description of the records sought and must include the requester's full name, current address, and date and place of birth. The request must be signed and either notarized or submitted under penalty of perjury. Some information may be exempt from access as described in the section entitled “Systems Exempted from Certain Provisions of the Act.” An individual who is the subject of a record in this system may access those records that are not exempt from disclosure. A determination of whether a record may be accessed will be made after a request is received.

Although no specific form is required, you may obtain forms for this purpose from the FOIA/PA Mail Referral Unit, Justice Management Division, United States Department of Justice, 950 Pennsylvania Avenue, NW., Washington, DC 20530-0001, or on the Department of Justice Web site at www.usdoj.gov/04foia/att_d.htm.

CONTESTING RECORD PROCEDURES:

Individuals seeking to contest or amend information maintained in the system should direct their requests to the appropriate office indicated in the “Notification Procedures” section, above, stating clearly and concisely what information is being contested, the reasons for contesting it, and the proposed amendment to the information sought. Some information may be exempt from contesting record procedures as described in the section entitled “Systems Exempted from Certain Provisions of the Act.” An individual who is the subject of a record in this system may seek amendment of those records that are not exempt. A determination of whether a record is exempt from amendment will be made after a request is received.

RECORD SOURCE CATEGORIES:

Those individuals who submit initial requests and administrative appeals pursuant to the FOIA, the Privacy Act, or the applicable executive order(s) governing classified national security information; the agency records searched in the process of responding to such requests and appeals; Department of Justice personnel assigned to handle such requests and appeals; other agencies or entities that have referred to the Department of Justice requests concerning Department of Justice records, or that have consulted with the Department of Justice regarding the handling of particular requests; and submitters or subjects of records or information that have provided assistance to the Department of Justice in making access or amendment determinations.

SYSTEMS EXEMPTED FROM CERTAIN PROVISIONS OF THE ACT:

The Attorney General has exempted this system from subsections (c)(3) and (4), (d)(1), (2), (3), and (4); (e)(1), (2), (3), (5), and (8); and (g) of the Privacy Act pursuant to 5 U.S.C. 552a(j) and (k). These exemptions apply only to the extent that information in the system is subject to exemption pursuant to 5 U.S.C. 552a(j) and (k).

Rules have been promulgated in accordance with the requirements of 5 U.S.C. 553(b), (c), and (e), and have been published in the Federal Register.

[FR Doc. 01-13861 Filed 6-1-01; 8:45 am]

BILLING CODE 4410-FB-M